FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 008005-012.

Title: New York Terminal Conference Agreement.

Parties: American Stevedoring Inc.; APM Terminals Elizabeth, LLC; Port Newark Container Terminal LLC; GCT Bayonne LP; and GCT New York LP.

Filing Party: George J. Lair; New York Terminal Conference; P.O. Box 875; Chatham, NJ 07928.

Synopsis: The amendment replaces Universal Maritime Services Corp. with APM Terminals Elizabeth, LLC.

Agreement No.: 011409-019.

Title: Transpacific Carrier Services Inc. Agreement.

Parties: American President Lines, Ltd. and APL Co. PTE Ltd.; China Shipping Container Lines (Hong Kong) Co., Ltd.; China Shipping Container Lines Co., Ltd.; CMA CGM S.A.; COSCO Container Lines Company, Ltd.; Evergreen Line Joint Service Agreement; Hanjin Shipping Co., Ltd.; Hapag-Lloyd AG; Hyundai Merchant Marine Co., Ltd.; Kawasaki Kisen Kaisha, Ltd.; Mitsui O.S.K. Lines, Ltd.; Nippon Yusen Kaisha, Ltd.; Orient Overseas Container Line Limited; Yang Ming Marine Transport Corp.; and Zim Integrated Shipping Services, Ltd.

Filing Party: Wayne Rohde, Esq.; Cozen O'Connor; 1627 I Street NW.; Suite 1100; Washington, DC 20006.

Synopsis: The amendment corrects the addresses of APL Co Pte. Ltd. and Hyundai Merchant Marine Co., Ltd.

Agreement No.: 011426-056.

Title: West Coast of South America Discussion Agreement.

Parties: Compania Chilena de Navigacion Interoceanica, S.A.; Compania Sud Americana de Vapores, S.A.; Frontier Liner Services, Inc.; Hamburg-Süd; King Ocean Services Limited, Inc.; Mediterranean Shipping Company, SA; Seaboard Marine Ltd.; and Trinity Shipping Line.

Filing Party: Wayne R. Rohde, Esq.; Cozen O'Conner; 1627 I Street NW., Suite 1100; Washington, DC 20006-4007.

Synopsis: The amendment would add Hapag-Lloyd AG and Norasia Container Lines Limited (acting as a single party) as parties to the agreement.

Agreement No.: 011679-013.

Title: ASF/SERC Agreement.

Parties: American President Lines, Ltd./APL Co. Pte Ltd.; ANL Singapore Pte Ltd.; China Shipping (Group) Company/China Shipping Container Lines, Co. Ltd.; COSCO Container Lines Company, Ltd.; Evergreen Line Joint Service Agreement; Hanjin Shipping Co., Ltd.; Hyundai Merchant Marine Co., Ltd.; Kawasaki Kisen Kaisha, Ltd.; Mitsui O.S.K. Lines, Ltd.; Nippon Yusen Kaisha; Orient Overseas Container Line Ltd.; Wan Hai Lines Ltd.; and Yang Ming Marine Transport Corp.

Filing Party: Wayne Rohde, Esq.; Cozen O'Connor; 1627 I Street NW.; Suite 1100; Washington, DC 20006.

Synopsis: The amendment corrects the addresses of APL Co Pte. Ltd.; Hyundai Merchant Marine Co., Ltd.; and Kawasaki Kisen Kaisha, Ltd.

Agreement No.: 012194-003.

Title: The G6 Alliance Agreement.

Parties: American President Lines, Ltd. and APL Co. Pte, Ltd. (Operating as one Party); Hapag-Lloyd AG and Hapag Lloyd USA LLC (Operating as one Party); Hyundai Merchant Marine Co., Ltd.; Mitsui O.S.K. Lines, Ltd.; Nippon Yusen Kaisha; and Orient Overseas Container Line, Limited and OOCL (Europe) Limited (Operating as one party).

Filing Party: David F. Smith, Esq.; Cozen O'Connor; 1627 I Street NW., Suite 1100; Washington, DC 20006.

Synopsis: The amendment would change the corporate addresses of American President Lines, Ltd. and APL Co. Pte, Ltd. (collectively one party); and Hyundai Merchant Marine Co., Ltd.

Agreement No.: 012200-002.

Title: The G6/Zim Transpacific Vessel Sharing Agreement.

Parties: American President Lines, Ltd. and APL Co. Pte, Ltd. (Operating as one Party); Hapag-Lloyd AG; Hyundai Merchant Marine Co., Ltd.; Mitsui O.S.K. Lines, Ltd.;

Nippon Yusen Kaisha; and Orient Overseas Container Line, Limited.; and Zim Integrated Shipping Services Limited.

Filing Party: David F. Smith, Esq.; Cozen O'Connor; 1627 I Street NW., Suite 1100; Washington, DC 20006.

Synopsis: The amendment would change the corporate addresses of American President Lines, Ltd. and APL Co. Pte, Ltd. (collectively one party); and Hyundai Merchant Marine Co., Ltd.

Agreement No.: 012258-001.

Title: The G6/HSDG Atlantic Space Charter Agreement.

Parties: American President Lines, Ltd. and APL Co. Pte, Ltd. (operating as one party); Hapag-Lloyd AG and Hapag-Lloyd USA LLC; Hyundai Merchant Marine Co., Ltd.; Mitsui O.S.K. Lines, Ltd.; Nippon Yusen Kaisha; Orient Overseas Container Line, Limited and OOCL (Europe) Limited (acting as a single party); and Hamburg Sud.

Filing Party: David F. Smith, Esq.; Cozen O'Connor; 1627 I Street, NW., Suite 1100; Washington, DC 20006.

Synopsis: The amendment would change the corporate addresses of American President Lines, Ltd. and APL Co. Pte, Ltd. (collectively one party); and Hyundai Merchant Marine Co., Ltd.

Agreement No.: 012311-001.

Title: HSDG/CCNI Agreement.

Parties: Hamburg Sudamerikanische Dampfschifffahrtsgesellschaft and Compania Chilena de Navegacion Interoceanica S.A.

Filing Party: Wayne R. Rohde, Esq.; Cozen O'Connor, 1627 I Street NW.; Washington, DC 20006.

Synopsis: The amendment would add the U.S. Gulf and Pacific Coasts and Central America to the geographic scope of the agreement.

Agreement No.: 201048-008.

Title: Lease and Operating Agreement between Philadelphia Regional Port Authority and Delaware River Stevedores, Inc.

Parties: Philadelphia Regional Port Authority and Delaware River Stevedores, Inc.

Filing Party: Paul D. Coleman, Esq.; Hoppel, Mayer & Coleman; 1050 Connecticut Avenue NW., Tenth Floor; Washington, DC 20036.

Synopsis: The amendment allows for the agreement on and procedures for the dredging of berths to certain depths.

Dated: December 31, 2014.
By Order of the Federal Maritime Commission.
Karen V. Gregory,
Secretary.

[FR Doc. 2014-30952 Filed 1-5-15; 8:45 am]

BILLING CODE 6730-01-P